DEPARTMENT OF JUSTICE

Notice of Lodging of Modification of Consent Decree Under the Clean Water Act

Notice is hereby given that on June 29, 2012, a proposed Modification of Consent Decree (“Modification”) in United States of America v. Puerto Rico Aqueduct and Sewer Authority, and The Commonwealth of Puerto Rico, Civil Action No. 3:10-1365 (SEC) was lodged with the United States Court for the District of Puerto Rico. The Consent Decree requires the Puerto Rico Aqueduct and Sewer Authority (“PRASA”) to, among other things, implement injunctive relief measures at 126 water treatment plants (WTPs) over a 15 year period throughout the Commonwealth of Puerto Rico. The injunctive relief measures are to be implemented in three phases which include short-term and mid-term remedial actions; as well as longer term capital improvement projects. The details of the injunctive relief measures were originally described in Paragraph 8 of the Consent Decree, and Appendices C-E attached to the Consent Decree. To date, PRASA has completed all of the short-term remedial measures required under the Consent Decree. The Consent Decree also required PRASA to comply with interim limits at certain WTPs, and the particular interim limits were set forth in Appendix F attached to the Consent Decree.

The proposed Modification amends the Consent Decree by expanding the scope and extending the deadline for completion of the mid-term remedial measures as set forth in Paragraph 8. b. and Appendix D of the Consent Decree. The original Consent Decree requires 148 mid-term remedial measures to be completed by June 30, 2012. Pursuant to the proposed Modification 232 mid-term remedial projects are required to be completed under the following schedule: completion of 14 projects by June 30, 2012; completion of 37 projects by October 31, 2012; completion of 102 projects by December 31, 2012; completion of 72 projects by March 31, 2013; and completion of the remaining 7 projects by June 30, 2013. The proposed Modification also calls for increased reporting by PRASA on the status of the mid-term remedial measures, as well as four meetings between EPA and PRASA between October 2012 and May 2013 to discuss the progress of the remedial measures.

In addition, the proposed Modification revises Appendix F that sets forth interim limits that apply for certain WTPs. Supplemental sampling taken after entry of the Consent Decree indicates that revisions to some of the interim limits, as originally listed in Appendix F, is appropriate, and the proposed Modification replaces original Appendix F with a revised Appendix F setting forth the modified interim limits for certain WTPs.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to the matter as United States v. Puerto Rico Aqueduct and Sewer Authority and the Commonwealth of Puerto Rico, D.J. Ref. 90-5-1-1-08385/2.

The Consent Decree may be examined at the Office of the United States Attorney, Torre Chardon Suite 1201, 350 Carlos Chardon Avenue, San Juan, Puerto Rico 00918, and at U.S. EPA CEPD office, City View Plaza—Suite 7000, #48 Rd. 165 KM. 1.2, Guaynabo, Puerto Rico 00968-8069. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-1547. In requesting a copy from the Consent Decree Library, please enclose a check in the amount of $27.75 (25 cents per page reproduction costs of the Consent Decree) payable to the U.S. Treasury or, if by email or fax, forward a check in that amount to the Consent Decree Library at the stated address.

Ronald G. Gluck,
Assistant Section Chief, Environmental Enforcement Section, Environment and Natural Resource Division.

[FR Doc. 2012-16495 Filed 7-5-12; 8:45 am]

BILLING CODE 4410-15-P